NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of a teleconference meeting of the Executive Committee National Science Board.

AGENCY HOLDING MEETING: National Science Board.

DATE AND TIME: Wednesday, July 3, 2013 from 4:00-5:00 p.m.

SUBJECT MATTER: Discussion of legislative matters.

STATUS: Closed.

PLACE: This meeting will be held by teleconference originating at the National Science Board Office, National Science Foundation, 4201 Wilson Blvd., Arlington, VA 22230.

UPDATES: Please refer to the National Science Board Web site www.nsf.gov/nsb for additional information. Meeting information and schedule updates (time, place, subject matter or status of meeting) may be found at http://www.nsf.gov/nsb/notices/.

AGENCY CONTACT: Peter Arzberger, contact at 703/292-8000 or parzberg@nsf.gov.

Ann Bushmiller,
NSB Senior Legal Counsel.

[FR Doc. 2013-15518 Filed 6-25-13; 4:15 pm]

BILLING CODE 7555-01-P